ENVIRONMENTAL PROTECTION AGENCY

[FRL-7232-9]

Proposed Effluent Guidelines Program Plan for 2002/2003

AGENCY: Environmental Protection Agency (EPA).

ACTION: Proposed Effluent Guidelines Program Plan; request for comments.

SUMMARY: Today's notice presents and invites comment on EPA's proposed Effluent Guidelines Program Plan for 2002/2003. Under the Clean Water Act (CWA), EPA establishes national regulations, termed “effluent guidelines,” to reduce pollutant discharges from industrial facilities to surface waters and publicly owned treatment works (POTWs). The proposed Effluent Guidelines Program Plan describes the Agency's ongoing effluent guidelines development efforts.

DATES: EPA must receive comments on the proposed effluent guidelines plan by July 18, 2002.

ADDRESSES: Submit written comments to Ms. Patricia Harrigan at the following address: Office of Water, Engineering and Analysis Division (4303T), U.S. EPA, 1200 Pennsylvania Avenue, NW, Washington, DC 20460. Comments submitted via hand delivery or Federal Express may be sent to the following address: U.S. EPA, EPA West, Room 6221, 1301 Constitution Avenue, NW, Washington, DC 20004. For additional information on how to submit comments, see “How to Submit Comments” in the Supplementary Information section of this notice.

The public record for this proposed plan has been established under docket number W-01-12 and is located in EPA's Water Docket, East Tower Basement (Room EB 57), 401 M Street SW, Washington, DC 20460. The record is available for inspection from 9:00 a.m. to 4:00 p.m., Monday through Friday, excluding legal holidays. For access to docket materials, call (202) 260-3027 to schedule an appointment. You may have to pay a reasonable fee for copying.

FOR FURTHER INFORMATION CONTACT: Patricia Harrigan at (202) 566-1666 or harrigan.patricia@epa.gov, or Jan Matuszko at (202) 566-1035 or matuszko.jan@epa.gov.

How To Submit Comments

EPA encourages submission of comments using e-mail. Please send comments via e-mail to harrigan.patricia@epa.gov. Electronic comments must specify docket number W-01-12 and must be submitted as an ASCII, Word or WordPerfect file avoiding the use of special characters or any form of encryption. No confidential business information (CBI) should be sent via e-mail.

If you elect to mail your comments, please send an original and 3 copies of your comments and enclosures (including references). Commenters who want EPA to acknowledge receipt of their comments should enclose a self-addressed, stamped envelope. No facsimilies (faxes) will be accepted.

I. Regulated Entities

Today's proposed Effluent Guidelines Program Plan for 2002/2003 does not contain regulatory requirements. It identifies industrial categories for which EPA expects to develop or revise effluent limitations guidelines and standards and sets forth the schedules for those rulemakings. Entities that could be affected by regulations developed under this Plan, as proposed, are shown in Table 1 below.

Table 1.—Entities Potentially Affected by Forthcoming Effluent Guidelines Regulations
Category of entity | Examples of potentially affected entities
Industrial, Commercial, or Agricultural | Metal Products and Machinery (including electroplating, metal finishing); builders and developers engaged in construction, development, and redevelopment; Feedlots (swine, poultry, dairy and beef cattle); Aquatic Animal Production (fish hatcheries and farms); and Meat Products (slaughtering, rendering, packing, processing of red meat and poultry); and Pulp and Paper (dissolving mills).
Federal Government | Metal Products and Machinery (including electroplating, metal finishing); builders and developers engaged in construction, development, and redevelopment.
State Government | Metal Products and Machinery (including electroplating, metal finishing); builders and developers engaged in construction, development, and redevelopment.
Local Government | Metal Products and Machinery (including electroplating, metal finishing); builders and developers engaged in construction, development, and redevelopment.

II. Legal Authority

Today's notice is published under the authority of section 304(m) of the CWA, 33 U.S.C. 1314(m).

III. Effluent Guidelines Program Background

The CWA directs EPA to promulgate effluent limitations guidelines and standards that, for most pollutants, reflect the level of pollutant control achievable by the best available technologies economically achievable for categories or subcategories of industrial point sources. See CWA sections 301(b)(2), 304(b), 306, 307(b), and 307(c). For point sources that introduce pollutants directly into the Nation's waters (i.e., direct dischargers), the limitations and standards promulgated by EPA are implemented in National Pollutant Discharge Elimination System (NPDES) permits. See CWA sections 301(a), 301(b), and 402. For sources that discharge to POTWs (i.e., indirect dischargers), EPA promulgates pretreatment standards that apply directly to those sources and are enforced by POTWs backed by State and Federal authorities. See CWA sections 307(b) and (c).

Section 304(m) requires EPA to publish a Plan every two years that consists of three elements. First, under section 304(m)(1)(A), EPA is required to establish a schedule for the annual review and revision of existing effluent guidelines in accordance with section 304(b). Section 304(b) applies to effluent limitations guidelines for direct dischargers and requires EPA to revise such regulations as appropriate. Second, under section 304(m)(1)(B), EPA must identify categories of sources discharging toxic or nonconventional pollutants for which EPA has not published effluent limitations guidelines under section 304(b)(2) or new source performance standards (NSPS) under section 306. Finally, under section 304(m)(1)(C), EPA must establish a schedule for the promulgation of effluent limitations guidelines under section 304(b)(2) and NSPS for the categories identified under subparagraph (B) not later than three years after being identified in the section 304(m) plan. Section 304(m) does not apply to pretreatment standards for indirect dischargers, which EPA promulgates pursuant to sections 307(b) and 307(c) of the CWA.

On October 30, 1989, Natural Resources Defense Council, Inc., and Public Citizen, Inc., filed an action against EPA in which they alleged, among other things, that EPA had failed to comply with CWA section 304(m). Plaintiffs and EPA agreed to a settlement of that action in a Consent Decree entered on January 31, 1992. The consent decree, which has been modified several times, established a schedule by which EPA will propose and take final action for eleven point source categories identified by name in the decree, see Consent Decree, pars. 2(a) and 4(a), and for eight other point source categories identified only as new or revised rules, numbered 5 through 12, see Consent Decree par. 5(a). The Decree also established deadlines for EPA to complete studies of eight identified and three unidentified point source categories. See Consent Decree, par. 3(a).

The last date for EPA action under the Decree, as modified, is June 2004. The Decree provides that the foregoing requirements shall be set forth in EPA's section 304(m) plans. See Consent Decree, pars. 3(a), 4(a), 5(a). The Consent Decree provides that section 304(m) plans issued subsequent to the decree that are consistent with its terms shall satisfy EPA's obligations under section 304(m) with respect to the publication of such plans. See Consent Decree, par. 7(b).

IV. Proposed Effluent Guidelines Program Plan for 2002/2003

Today's proposed Plan describes EPA's current effluent guidelines rulemaking activities. It is the last Effluent Guidelines Program Plan to be developed while EPA is operating under the 1992 Consent Decree described in Section III above.

Table 2 identifies the new or revised effluent guidelines currently under development and the schedules for proposal and final action.

Table 2.—Effluent Guidelines Currently Under Development
Category | Federal Register citation (date) or deadline for proposal | Final action date
Metal Products and Machinery | 66 FR 424 (Jan. 3, 2001) | 12/02
Concentrated Animal Feeding Operations (poultry, swine, beef, and dairy subcategories) | 66 FR 2959 (Jan. 12, 2001) | 12/15/02
Meat Products | 67 FR 8581 (Feb. 25, 2002) | 12/03
Construction and Development | 05/15/02 | 03/04
Aquatic Animal Production | 08/02 | 06/04
Pulp, Paper, and Paperboard (dissolving kraft (Subpart A) and dissolving sulfite (Subpart D)) | 58 FR 44078 (Dec. 17, 1993) | 09/04

In previous Effluent Guideline Plans, EPA had indicated its intention to take final action on its 1993 proposal to revise effluent guidelines for eight subcategories of the pulp, paper, and paperboard industry (Subparts C and F through L). At this time, however, EPA is not planning to revise effluent guidelines for these subcategories for a variety of reasons. For example, it appears that more stringent conventional pollutant limitations for these subcategories would not pass the Best Conventional Pollutant Control Technology “cost-reasonableness” test, which is explained at 51 FR 24974 (July 1986). In addition, EPA does not see the need at this time to promulgate national categorical best management practices to control spills and leaks of pulping liquors for these subcategories; permitting authorities can continue to impose best management practices on a case-by-case basis, as appropriate, under 40 CFR 122.44(k). As with all currently regulated industries, EPA will make the decision to move forward with data collection and analysis for all of these subparts (including possible guidelines revisions) using a broader priority-setting process the Agency is developing for its future effluent guidelines planning evaluations.

V. Future of the Effluent Guidelines Program

For the past ten years, the 1992 Consent Decree has greatly influenced EPA's management of the effluent guidelines program and has required the Agency to develop or revise a specified number of effluent guidelines within specified schedules. June 2004 is the last Consent Decree deadline for taking final action on an effluent guideline started under the Decree. The 1992 Consent Decree will terminate when this obligation is satisfied.

The termination of the Consent Decree offers EPA, interested stakeholders, and the public the chance to evaluate the existing program and to consider how national industrial regulations can best meet the needs of the broader National Clean Water Program in the years ahead. EPA is drafting a strategy setting forth a planning process by which EPA will conduct the review of national effluent guidelines and establish priorities to address the water quality challenges of the 21st century.

Integral to any planning process is the need to efficiently allocate scarce resources among competing priorities. This is particularly the case for a governmental agency such as EPA, which has the responsibility to assure that both public and private funds for regulatory compliance are spent to address the highest risks to human health and the environment. EPA also believes that its process for setting priorities must be completely transparent. In keeping with these goals, the draft strategy will describe how EPA will work with other interested parties to assess the risks posed by industrial discharges and to identify the best approach to address these risks (i.e., through effluent guidelines or other tools).

EPA expects that development and implementation of this strategy will require a significant Agency investment in research, planning, and outreach. EPA plans to publish this draft strategy later this year, and will seek to engage a broad range of interested parties in a discussion on the draft strategy. EPA intends to first use the process described in the strategy as the basis for its 2004/2005 Effluent Guidelines Program Plan.

VI. Request for Comment

EPA invites public comment on the proposed Effluent Guidelines Program Plan for 2002/2003 and on all other aspects of today's notice.

Dated: June 11, 2002.
G. Tracy Mehan, III,
Assistant Administrator for Water.

[FR Doc. 02-15329 Filed 6-17-02; 8:45 am]

BILLING CODE 6560-50-P